DEPARTMENT OF TRANSPORTATION

Federal Aviation Administration

14 CFR Part 71

[Docket No. FAA-2023-0503; Airspace Docket No. 23-ASO-07]

RIN 2120-AA66

Amendment of Class D and Class E Airspace; Huntsville, AL

AGENCY: Federal Aviation Administration (FAA), DOT.

ACTION: Final rule.

SUMMARY: This action amends the Class D and Class E surface airspace and Class E airspace extending upward from 700 feet above the surface in Huntsville, AL, as the result of a biennial airspace evaluation. This action extends the Class E airspace extending upward from 700 feet above the surface surrounding Redstone Army Airfield (AAF) and Huntsville Executive Tom Sharp Jr. Field. The FAA will also update terminology in the Class D and Class E surface airspace descriptions for Redstone AAF.

DATES: Effective date 0901 UTC, October 5, 2023. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours a day, 365 days a year.

FAA Order JO 7400.11G, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Jennifer Ledford, Operations Support Group, Eastern Service Center, Federal Aviation Administration, 1701 Columbia Ave., College Park, GA 30337; Telephone: (404) 305-5649.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as controlled airspace is necessary for the safety and management of instrument flight rules (IFR) operations in the area.

History

The FAA published a notice of proposed rulemaking for Docket No. FAA 2023-0503 in the Federal Register (88 FR 21141; April 10, 2023), amending Class E airspace extending upward from 700 feet above the surface at Redstone AAF and Huntsville Executive Tom Sharp Field in Huntsville, AL. This action also updates terminology in the Class D and Class E surface airspace descriptions for Redstone AAF. Interested parties were invited to participate in this rulemaking effort by submitting written comments on the proposal to the FAA. No comments were received.

Incorporation by Reference

Class D and E airspace designations are published in paragraphs 5000, 6002, and 6005 of FAA Order JO 7400.11, Airspace Designations and Reporting Points, which is incorporated by reference in 14 CFR 71.1 annually. This document amends the current version of that order, FAA Order JO 7400.11G, dated August 19, 2022, and effective September 15, 2022. FAA Order JO 7400.11G is publicly available as listed in the ADDRESSES section of this document. These amendments will be published in the next FAA Order JO 7400.11 update.

FAA Order JO 7400.11G lists Class A, B, C, D, and E airspace areas, air traffic service routes, and reporting points.

The Rule

This action amends 14 CFR part 71 by amending Class E airspace extending upward from 700 feet above the surface of Redstone AAF by increasing the radius to 14.1 miles (previously 9.5 miles). The FAA amends Class E airspace extending upward from 700 feet above the surface of Huntsville Executive Tom Sharp Field by increasing the radius to 7.6 miles (previously 6.3 miles). In doing so, the FAA removes Huntsville International-Carl T. Jones Field: RWY 36L-LOC from the legal description of Huntsville Executive Tom Sharp Field as it is no longer a necessary part of the legal description. In addition, this action replaces the outdated terms Airport/Facility Directory with the term Chart Supplement and Notice to Airmen with the term Notice to Air Missions in the Huntsville Class D and Class E surface airspace descriptions.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p.389.

§ 71.1 [Amended]

2. The incorporation by reference in 14 CFR 71.1 of FAA Order JO 7400.11G, Airspace Designations and Reporting Points, dated August 19, 2022, and effective September 15, 2022, is amended as follows:

Paragraph 5000 Class D Airspace

* * * * *

ASO AL D Huntsville, Redstone Army Airfield, AL

Redstone Army Airfield, AL

(Lat 34°40′43″ N, long 86°41′05″ W)

That airspace extending upward from the surface to but not including 2,400 feet MSL within a 4.4-mile radius of Redstone Army Airfield, excluding that portion within the Huntsville International-Carl T. Jones Field, AL, Class C airspace area. This Class D airspace area is effective during the specific dates and times established in advance by a Notice to Air Missions. The effective date and time will thereafter be continuously published in the Chart Supplement.

* * * * *

Paragraph 6002 Class E Surface Airspace

* * * * *

ASO AL E2 Huntsville, AL

Huntsville International-Carl T. Jones Field, AL

(Lat 34°38′14″ N, long 86°46′30″ W)

Redstone AAF, AL

(Lat 34°40′43″ N, long 86°41′05″ W)

That airspace extending upward from the surface within a 5-mile radius of the Huntsville International-Carl T. Jones Field, excluding that airspace within a 1-mile radius of the Redstone AAF. This Class E airspace area is effective during the specific dates and times established in advance by a Notice to Air Missions. The effective date and time will thereafter be continuously published in the Chart Supplement.

* * * * *

Paragraph 6005 Class E Airspace Areas Extending Upward From 700 Feet or More Above the Surface of the Earth

* * * * *

ASO AL E5 Huntsville, AL

Redstone AAF, AL

(Lat 34°40′43″ N, long 86°41′05″ W)

Pryor Field Regional Airport, AL

(Lat 34°39′15″ N, long 86°56′43″ W)

Huntsville Executive Tom Sharp Jr. Field, AL

(Lat 34°51′34″ N, long 86°33′27″ W)

That airspace extending upward from 700 feet above the surface within a 14.1-mile radius of Redstone AAF, within a 7-mile radius of Pryor Field Regional Airport, and within a 7.6-mile radius of Huntsville Executive Tom Sharp Jr. Field.

* * * * *

Issued in College Park, GA, on June 12, 2023.
Andreese C. Davis,
Manager, Airspace & Procedures Team South, Eastern Service Center, Air Traffic Organization.

[FR Doc. 2023-12959 Filed 6-15-23; 8:45 am]

BILLING CODE 4910-13-P